DEPARTMENT OF HOUSING AND URBAN DEVELOPMENT

48 CFR Part 2409

[Docket No. FR-4291-C-03]

RIN 2535-AA25

HUD Acquisition Regulation; Technical Correction

AGENCY: Office of the Chief Procurement Officer (CPO).

ACTION: Final rule; correction.

SUMMARY: This document makes a technical correction to a final rule that amended the Department of Housing and Urban Development (HUD) Acquisition Regulation (HUDAR) by restoring language that had been inadvertently removed.

DATES: Effective Date: February 22, 2000.

FOR FURTHER INFORMATION CONTACT: Frederick Graves, Policy and Field Operations Division, Office of Procurement and Contracts (Seattle Outstation), U.S. Department of Housing and Urban Development, Seattle Federal Office Building, 909 1st Avenue, Seattle, WA 98104-1000, telephone (206) 220-5122 extension 3450, FAX (206) 220-5406. Persons with hearing or speech impairments may access that number via TTY by calling the Federal Information Relay Service at (800) 877-8339.

SUPPLEMENTARY INFORMATION: On January 21, 2000, HUD published a final rule (65 FR 3576) that made several amendments to the HUDAR at 48 CFR chapter 24. In the revision of 48 CFR 2409.507-2 by this rule, HUD inadvertently replaced the existing paragraph with a new paragraph, rather than adding the new paragraph to the existing paragraph. This document corrects that error.

Accordingly, under the authority of 40 U.S.C. 486(c), 42 U.S.C. 3535(d), FR Doc. 00-531, the final rule amending the HUD Acquisition Regulation, published in the Federal Register on January 21, 2000 (65 FR 3576), is amended as follows:

1. On page 3576, in column 3, section 2409.507-1 is corrected to read as follows:

2409.507-2 Contract clauses.

The Contracting Officer shall insert a clause substantially the same as the clause at 48 CFR 2452.209-71, Limitation on Future Contracts, in all contracts above the simplified acquisition threshold. The Contracting Officer shall describe in the clause the nature of the potential conflict, and the negotiated terms and the duration of the limitation. The Contracting Officer shall insert the clause at 2452.209-72, Organizational Conflicts of Interest, in all contracts.

Dated: March 3, 2000.
V. Stephen Carberry,
Chief Procurement Officer.

[FR Doc. 00-5812 Filed 3-9-00; 8:45 am]

BILLING CODE 4210-01-P